FEDERAL COMMUNICATIONS COMMISSION

[DA-00-868]

Telecommunications Services Between the United States and Cuba

AGENCY: Federal Communications Commission.

ACTION: Notice.

SUMMARY: On April 13, 2000, the FCC approved the application of CODETEL International Communications Corporation (CIC) to provide international message telephone service (IMTS) between the United States and Cuba transiting the Dominican Republic, subject to specific conditions.

CIC plans to offer service to Cuba using facilities of Compañia Dominicana de Teléfonos (CODETEL), the dominant carrier in the Dominican Republic, with which CIC is affiliated within the meaning of 47 CFR 63.09(e). The U.S.-Dominican Republic portion of the traffic will be carried over a submarine cable owned by CODETEL. The Dominican Republic-Cuba portion of the traffic will travel over satellite circuits already in use for CODETEL's traffic with Cuba.

The FCC found that granting CIC's application would serve the public interest under Section 214 of the Act, by increasing competition on the U.S.-Cuba international services route and providing more choices to U.S. consumers.

DATES: April 13, 2000.

FOR FURTHER INFORMATION, CONTACT: J. Breck Blalock, Chief, Policy and Facilities Branch, (202) 418-1460.

Federal Communications Commission.
Rebecca Arbogast,
Chief, Telecommunications Division, International Bureau.

[FR Doc. 00-10754 Filed 4-28-00; 8:45 am]

BILLING CODE 6712-01-P